ENVIRONMENTAL PROTECTION AGENCY

[FRL-8181-6; Docket ID No. EPA-HQ-ORD-2006-0491]

External Review Draft, Estimation of Biota Sediment Accumulation Factor (BSAF) From Paired Observations of Chemical Concentrations in Biota and Sediment

AGENCY: Environmental Protection Agency (EPA).

ACTION: Notice of public comment period.

SUMMARY: EPA is announcing a 30-day public comment period for the draft document titled, “Estimation of Biota Sediment Accumulation Factor (BSAF) from Paired Observations of Chemical Concentrations in Biota and Sediment” (EPA/600/R-06/047). The document was prepared by the Ecological Risk Assessment Support Center managed by the National Center for Environmental Assessment within EPA's Office of Research and Development.

EPA is releasing this draft document solely for the purpose of pre-dissemination peer review under applicable information quality guidelines. This document has not been formally disseminated by EPA. It does not represent and should not be construed to represent any Agency policy or determination. EPA will consider any public comments submitted in accordance with this notice when revising the document.

DATES: The 30-day public comment period begins June 8, 2006, and ends July 10, 2006. Technical comments should be in writing and must be received by EPA by July 10, 2006.

ADDRESSES: The draft document, “Estimation of Biota Sediment Accumulation Factor (BSAF) from Paired Observations of Chemical Concentrations in Biota and Sediment,” is available primarily via the Internet on the National Center for Environmental Assessment(s home page under the Recent Additions and Data and Publications menus at http://www.epa.gov/ncea. A limited number of paper copies are available from the Technical Information Staff, NCEA-Cin; telephone: 513-569-7257; facsimile: 513-569-7916. If you are requesting a paper copy, please provide your name, your mailing address, and the document title, “Estimation of Biota Sediment Accumulation Factor (BSAF) from Paired Observations of Chemical Concentrations in Biota and Sediment.”

Comments may be submitted electronically via http://www.regulations.gov, by mail, by facsimile, or by hand delivery/courier. Please follow the detailed instructions provided in the SUPPLEMENTARY INFORMATION section of this notice.

FOR FURTHER INFORMATION CONTACT: For information on the public comment period, contact the Office of Environmental Information Docket; telephone: 202-566-1752; facsimile: 202-566-1753; or e-mail: ORD.Docket@epa.gov.

For technical information, contact Michael Kravitz, NCEA; telephone: 513-569-7740; facsimile: 513-487-2540; or e-mail: kravitz.michael@epa.gov.

SUPPLEMENTARY INFORMATION:

I. Information About the Project/Document

U.S. EPA's Ecological Risk Assessment Support Center (ERASC) is a knowledge center that provides technical information and addresses scientific questions on topics relevant to ecological risk assessment at hazardous waste sites for EPA's Office of Solid Waste and Emergency Response (OSWER) and Regional Superfund/Resource Conservation and Recovery Act (RCRA) staff. Topics are submitted to ERASC by users in EPA program offices and regions. The ERASC is managed by the Office of Research and Development's (ORD's) National Center for Environmental Assessment and is located in Cincinnati, Ohio.

The ERASC recently completed an external review draft of the document titled, “Estimation of Biota Sediment Accumulation Factor (BSAF) from Paired Observations of Chemical Concentrations in Biota and Sediment.” BSAF is a parameter describing bioaccumulation of sediment-associated organic compounds or metals into tissues of ecological receptors. The draft provides information on methodologies to estimate BSAF. It is focused solely on the determination of BSAFs for nonionic organic chemicals and is primarily applicable to fish and high level shellfish, e.g., crabs. The determination of BSAFs for metals is not discussed.

II. How To Submit Technical Comments to the Docket at www.regulations.gov

Submit your comments, identified by Docket ID No. EPA-HQ-ORD-2006-0491 by one of the following methods:

• http://www.regulations.gov: Follow the on-line instructions for submitting comments.

• E-mail: ORD.Docket@epa.gov.

• Fax: 202-566-1753.

• Mail: Office of Environmental Information (OEI) Docket (Mail Code: 2822T), U.S. Environmental Protection Agency, 1200 Pennsylvania Ave., NW., Washington, DC 20460. The phone number is 202-566-1752.

• Hand Delivery: The OEI Docket is located in the EPA Headquarters Docket Center, Room B102 EPA West Building, 1301 Constitution Ave., NW., Washington, DC. The EPA Docket Center Public Reading Room is open from 8:30 a.m. to 4:30 p.m., Monday through Friday, excluding legal holidays. The telephone number for the Public Reading Room is 202-566-1744. Such deliveries are only accepted during the Docket's normal hours of operation, and special arrangements should be made for deliveries of boxed information.

If you provide comments in writing, please submit one unbound original with pages numbered consecutively, and three copies of the comments. For attachments, provide an index, number pages consecutively with the comments, and submit an unbound original and three copies.

Instructions: Direct your comments to Docket ID No. EPA-HQ-ORD-2006-0491. It is EPA's policy to include all comments it receives in the public docket without change and to make the comments available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: Documents in the docket are listed in the http://www.regulations.gov index. Although listed in the index, some information is not publicly available, e.g., CBI or other information whose disclosure is restricted by statute. Certain other materials, such as copyrighted material, are publicly available only in hard copy. Publicly available docket materials are available either electronically at http://www.regulations.gov or in hard copy at the OEI Docket in the EPA Headquarters Docket Center.

Dated: May 26, 2006.
George W. Alapas,
Acting Director, National Center for Environmental Assessment.

[FR Doc. E6-8937 Filed 6-7-06; 8:45 am]

BILLING CODE 6560-50-P